DEPARTMENT OF LABOR

Occupational Safety and Health Administration

[Docket No. ICR-1218-0220(2002)]

Shipyard Employment Standards (29 CFR Part 1915); Extension of the Office of Management and Budget's Approval of Information-Collection (Paperwork) Requirements

AGENCY: Occupational Safety and Health Administration (OSHA), Labor.

ACTION: Request for comment.

SUMMARY: OSHA requests comment concerning its proposed extension of the information-collection requirements specified by its Shipyard Employment Standards (29 CFR part 1915). OSHA also requests comment on the proposed decrease in burden hours associated with the information collected. The paperwork provision of the Standard specifies a requirement for testing hooks (29 CFR 1915.113(b)(1)) and for examining and testing portable air receivers and other unfired pressure vessels (29 CFR 1915.172(d)) used in shipyards. The employer must prepare a certification record to certify that the tests were performed as specified in the Standard. The purpose of the requirement is to reduce employees' risk of death or serious injury by ensuring that equipment is in safe operating condition.

DATES: Submit written comments on or before July 2, 2002.

ADDRESSES: Submit written comments to the Docket Office, Docket No. ICR-1218-0220(2002), OSHA, U.S. Department of Labor, Room N-2625, 200 Constitution Avenue, NW., Washington, DC 20210; telephone (202) 693-2350. Commenters may transmit written comments of 10 pages or less by facsimile to (202) 693-1648.

FOR FURTHER INFORMATION CONTACT: Theda Kenney, Directorate of Safety Standards Program, OSHA, U.S. Department of Labor, Room N-3609, 200 Constitution Avenue, NW., Washington, DC 20210; telephone (202) 693-2222. A copy of the Agency's Information-Collection Request (ICR) supporting the need for the information collection specified by the Shipyard Employment Standards is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are understandable, and OSHA's estimate of the information-collection burden is correct.

The Standard specifies two paperwork requirements. The following sections describe who uses the information collected under each requirement, as well as how they use it. The purpose of these requirements is to reduce employees' risk of death or serious injury by ensuring that equipment has been tested and is in safe operating condition.

• Test Records for Hooks (paragraphs 1915.113(b)(1)). This paragraph requires that the manufacturer's recommendations be followed in determining the safe working loads of the various sizes and types of hooks. If the manufacturer's recommendations are not available, the hook must be tested to twice the intended safe working load before it is initially put into use. The employer must maintain and keep readily available a certification record which includes the date of such test, the signature of the person who performed the test, and the identifier for the hook which was tested.

• Examination and Test Records for Unfired Pressure Vessels (paragraph 1915.172(d)). This paragraph requires that portable, unfired pressure vessels be examined quarterly by a competent person and subjected to a yearly hydrostatic pressure test. A certification record of such examinations and tests shall be maintained.

The records are used to assure that equipment has been properly tested. The records also provide the most efficient means for the compliance officers to determine that an employer is complying with the Standard.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection-of-information requirements specified by the Shipyard Employment Standards (29 CFR part 1915). The Agency will summarize the comments submitted in response to this notice, and will include this summary in its request to OMB to extend the approval of these information-collection requirements.

Type of Review: Extension of a currently-approved information-collection requirement.

Title: Shipyard Employment Standards (29 CFR part 1915).

OMB Number: 1218-0220.

Affected Public: Business or other for-profit; not-for-profit institutions; Federal government; State, local, or tribal governments.

Number of Respondents: 800.

Frequency of Recordkeeping: On occasion.

Average Time per Response: Varies from 20 minutes to 35 minutes.

Total Annual Hours Requested: 4,416 hours.

Total Annual Costs (O&M): $0.

IV. Authority and Signature

John L. Henshaw, Assistant Secretary of Labor for Occupational Safety and Health, directed the preparation of this notice. The authority for this notice is the Paperwork Reduction Act of 1995 (44 U.S.C. 3506), and Secretary of Labor's Order No. 3-2000 (65 FR 50017).

Signed at Washington, DC on April 30, 2002.
John L. Henshaw,
Assistant Secretary of Labor.

[FR Doc. 02-11012 Filed 5-2-02; 8:45 am]

BILLING CODE 4510-26-M